DEPARTMENT OF COMMERCE

International Trade Administration

[A-580-809, A-580-870, A-580-876, A-580-897]

Circular Welded Non-Alloy Steel Pipe From the Republic of Korea; Certain Oil Country Tubular Goods From the Republic of Korea; Welded Line Pipe From the Republic of Korea; and Large Diameter Welded Pipe From the Republic of Korea: Notice of Final Results of Antidumping Duty Changed Circumstances Reviews

AGENCY: Enforcement and Compliance, International Trade Administration, Department of Commerce.

SUMMARY: On October 17, 2024, the U.S. Department of Commerce (Commerce) published the preliminary results of changed circumstances reviews (CCRs) of the antidumping duty (AD) orders on circular welded non-alloy steel pipe (CWP), certain oil country tubular goods (OCTG), welded line pipe (WLP), and large diameter welded pipe (LDWP) from the Republic of Korea (Korea). For these final results, Commerce continues to find that Hyundai Steel Pipe Co., Ltd. (HSP) is the successor-in-interest to Hyundai Steel Company (Hyundai Steel), and that HSP is entitled to the AD cash deposit rates determined for Hyundai Steel with respect to entries of the subject merchandise in the above-referenced proceedings.

DATES: Applicable November 14, 2024.

FOR FURTHER INFORMATION CONTACT: George McMahon, AD/CVD Operations, Office VI, Enforcement and Compliance, International Trade Administration, U.S. Department of Commerce, 1401 Constitution Avenue NW, Washington, DC 20230, telephone: (202) 482-1167.

SUPPLEMENTARY INFORMATION:

Background

On October 17, 2024, Commerce published the Preliminary Results,¹ determining that HSP is the successor-in-interest to Hyundai Steel for purposes of determining AD cash deposits under the AD orders on CWP, OCTG, WLP, and LDWP from Korea ² and providing interested parties with an opportunity to comment.³ No interested party submitted comments on the Preliminary Results.

¹ See Circular Welded Non-Alloy Steel Pipe from the Republic of Korea; Certain Oil Country Tubular Goods from the Republic of Korea; Welded Line Pipe from the Republic of Korea; and Large Diameter Welded Pipe from the Republic of Korea: Notice of Preliminary Results of Antidumping Duty Changed Circumstances Reviews, 89 FR 83643 (October 17, 2024) (Preliminary Results), and accompanying Preliminary Decision Memorandum (PDM).

² See Notice of Antidumping Orders: Certain Circular Welded Non-Alloy Steel Pipe from Brazil, the Republic of Korea (Korea), Mexico, and Venezuela, and Amendment to Final Determination of Sales at Less Than Fair Value: Certain Circular Welded Non-Alloy Steel Pipe from Korea, 57 FR 49453 (November 2, 1992); Certain Oil Country Tubular Goods from India, the Republic of Korea, Taiwan, the Republic of Turkey, and the Socialist Republic of Vietnam: Antidumping Duty Orders; Certain Oil Country Tubular Goods from the Socialist Republic of Vietnam: Amended Final Determination of Sales at Less Than Fair Value, 79 FR 53691 (September 10, 2014); Welded Line Pipe from the Republic of Korea and the Republic of Turkey: Antidumping Duty Orders, 80 FR 75056 (December 1, 2015); and Large Diameter Welded Pipe from the Republic of Korea: Amended Final Affirmative Antidumping Determination and Antidumping Duty Order, 84 FR 18767 (May 2, 2019) (collectively, the Orders).

³ See Preliminary Results.

Scope of the Orders

The merchandise covered by these orders is CWP, OCTG, WLP, and LDWP from Korea. For a complete description of the scope of each of these orders, see the Preliminary Results.⁴

⁴ See Preliminary Results PDM; see also Orders.

Final Results of CCRs

For the reasons stated in the Preliminary Results, and because we received no comments from interested parties regarding the Preliminary Results, we continue to find that HSP is the successor-in-interest to Hyundai Steel with respect to the subject merchandise and the Orders. As a result of this determination, and consistent with our established practice,⁵ we find that HSP is entitled to the AD cash deposit rates applicable to Hyundai Steel for entries of subject merchandise. Because there are no changes from the Preliminary Results, there is no decision memorandum accompanying this notice, and we are adopting the Preliminary Results as the final results of these CCRs.

⁵ See, e.g., Certain Softwood Lumber Products from Canada: Notice of Final Results of Antidumping Duty Changed Circumstances Review, 89 FR 77472 (September 23, 2024).

Consequently, Commerce will instruct U.S. Customs and Border Protection to suspend liquidation of all shipments of subject merchandise produced and/or exported by HSP and entered, or withdrawn from warehouse, for consumption on or after the publication date of this notice in the Federal Register at Hyundai Steel's AD cash deposit rates in effect for the respective Orders. These cash deposit requirements shall remain in effect until further notice.

Administrative Protective Order (APO)

This notice serves as the only reminder to parties subject to APO of their responsibility concerning the disposition of proprietary information disclosed under APO in accordance with 19 CFR 351.305(a)(3). Timely written notification of return or destruction of APO materials or conversion to judicial protective order is hereby requested. Failure to comply with the regulations and terms of an APO is a sanctionable violation.

Notification to Interested Parties

We are issuing this determination and publishing these final results and notice in accordance with sections 751(b)(1), and 777(i)(1) and (2) of the Tariff Act of 1930, as amended, and 19 CFR 351.216(e), 351.221(b)(5), and 351.221(c)(3)(i).

Dated: November 7, 2024.
Abdelali Elouaradia,
Deputy Assistant Secretary for Enforcement and Compliance.

[FR Doc. 2024-26516 Filed 11-13-24; 8:45 am]

BILLING CODE 3510-DS-P